ELECTION ASSISTANCE COMMISSION

Sunshine Act Meetings

AGENCY: U.S. Election Assistance Commission.

ACTION: Sunshine Act Notice; Notice of Public Meeting Agenda.

SUMMARY: Public Meeting: U.S. Election Assistance Commission.

DATES: Tuesday, January 30, 10:00 a.m.-5:30 p.m. Eastern.

ADDRESSES: The meeting will be held in person at the University of Maryland, Stamp Student Union, 3972 Campus Dr, College Park, MD 20742. It will also be live streamed on the U.S. Election Assistance Commission YouTube Channel: https://www.youtube.com/channel/UCpN6i0g2rlF4ITWhwvBwwZw.

FOR FURTHER INFORMATION CONTACT: Kristen Muthig, Telephone: (202) 897-9285, Email: kmuthig@eac.gov.

SUPPLEMENTARY INFORMATION:

Purpose: In accordance with the Government in the Sunshine Act (Sunshine Act), Public Law 94-409, as amended (5 U.S.C. 552b), the U.S. Election Assistance Commission (EAC) will conduct an open meeting with the University of Maryland on topics related to the 2024 elections.

Agenda: During the meeting, election officials and other key stakeholders will join the EAC's Commissioners for in-depth panel discussions ahead of the 2024 elections on topics such as confidence in elections, election security, serving all voters, challenges for new election officials, and communicating about elections.

The full agenda will be posted in advance on the EAC website: https://www.eac.gov.

Background: The Help America Vote Act of 2002 (HAVA) charged the EAC to serve as a national clearinghouse and resource for the compilation of information and review of procedures with respect to the administration of federal elections. This meeting will provide information on emerging topics in elections to help inform stakeholders as well as the general public and members of the media.

Status: This meeting will be open to the public.

Camden Kelliher,
Acting General Counsel, U.S. Election Assistance Commission.

[FR Doc. 2024-00690 Filed 1-10-24; 4:15 pm]

BILLING CODE 4810-71-P